DEPARTMENT OF COMMERCE

National Oceanic and Atmospheric Administration

RIN: 0648-XF72

Gulf of Mexico Fishery Management Council; Public Hearings

AGENCY: National Marine Fisheries Service (NMFS), National Oceanic and Atmospheric Administration (NOAA), Commerce.

ACTION: Notice of scoping hearings.

SUMMARY: The Gulf of Mexico Fishery Management Council (Council) will convene public hearings on Reef Fish Amendment 30B.

DATES: The public hearings will held from March 10 - 20, 2008, at 8 locations throughout the Gulf of Mexico. For specific dates and times see SUPPLEMENTARY INFORMATION.

ADDRESSES: The public hearings will be held in the following locations: Port Aransas and Galveston, TX; New Orleans, LA; Panama City, St. Petersburg, and Naples, FL; Gulf Shores, AL and Biloxi, MS. See SUPPLEMENTARY INFORMATION for specific locations.

Council address: Gulf of Mexico Fishery Management Council, 2203 North Lois Avenue, Suite 1100, Tampa, FL 33607.

FOR FURTHER INFORMATION CONTACT: Mr. Steven Atran, Population Dynamics Statistician; telephone: (813) 348-1630.

SUPPLEMENTARY INFORMATION: The Gulf of Mexico Fishery Management Council (Council) has scheduled a series of public hearings to solicit comments on Draft Amendment 30B to the Reef Fish Fishery Management Plan. Amendment 30B contains potential management measures to define overfishing and overfished thresholds and an optimum yield (OY) target for gag, end overfishing of gag, increase the total allowable catch (TAC) of the red grouper stock to its OY level, establish recreational and commercial allocations for gag and red grouper, establish accountability measures for gag to assure compliance with ending overfishing, adjust commercial grouper quotas and recreational grouper bag limits, closed seasons, and/or size limits, reduce discards and discard mortality of groupers, establish a new reef fish marine reserve and/or extend the duration of the existing Madison-Swanson and Steamboat Lumps marine reserves, and require that federally permitted reef fish vessels comply with the more restrictive of federal or state reef fish regulations when fishing in state waters.

The public hearings will begin at 6 p.m. and conclude at the end of public testimony or no later than 10 p.m. at each of the following locations:

Monday, March 10, 2008, Hilton Airport, 901 Airline Drive, Kenner, LA 70062, telephone: (504) 469-5000;

Tuesday, March 11, 2008, University of Southern Mississippi - Gulf Coast Research Laboratory, Caylor Auditorium, 703 East Beach Drive, Ocean Springs, MS 39564, telephone: (228) 872-4200;

Tuesday, March 11, 2008, Holiday Inn, 5002 Seawall Blvd., Galveston, TX 77551, telephone: (409) 740-3581;

Wednesday, March 12, 2008, Erie Meyer Civic Center, 10300 2nd St. Gulf Shores, AL 36542, telephone: (251) 968-1173;

Wednesday, March 12, 2008, Plantation Suites & Conference Center, 1909 State Highway 361, Port Aransas, TX 78373, telephone: (361) 749-3866;

Thursday, March 13, 2008, Edgewater Beach & Conference Center, 11212 Front Beach Blvd., Panama City, FL 31407, telephone: (800) 814-8686;

Wednesday, March 19, 2008, Radisson Hotel & Conference Center, 12600 Roosevelt Blvd., St. Petersburg, FL 33716, telephone: (727) 572-7800;

Thursday, March 20, 2008, Comfort Inn & Executive Suites, 3860 Tollgate Blvd., Naples, FL 34114, telephone: (239) 353-9500;

Copies of the Amendment can be obtained by calling the Council office at (813) 348-1630.

Special Accommodations

These hearings are physically accessible to people with disabilities. Requests for sign language interpretation or other auxiliary aids should be directed to Tina Trezza at the Council (see ADDRESSES) at least 5 working days prior to the meeting.

Dated: February 19, 2008.
Tracey L. Thompson,
Acting Director, Office of Sustainable Fisheries, National Marine Fisheries Service.

[FR Doc. E8-3297 Filed 2-21-08; 8:45 am]

BILLING CODE 3510-22-S